DEPARTMENT OF LABOR

Employment and Training Administration

[TA-W-65,886]

BG Labs, a Subsidiary of Standex, Binghamton, NY; Notice of Termination of Investigation

Pursuant to Section 221 of the Trade Act of 1974, as amended, an investigation was initiated on May 5, 2009 in response to a petition filed by a company official on behalf of workers of BG Labs, a subsidiary of Standex, Binghamton, New York.

The petitioner has requested that the petition be withdrawn. Consequently, the investigation has been terminated.

Signed at Washington, DC, this 11th day of May 2009.
Linda G. Poole,
Certifying Officer, Division of Trade Adjustment Assistance.

[FR Doc. E9-13891 Filed 6-12-09; 8:45 am]

BILLING CODE 4510-FN-P